DEPARTMENT OF HOMELAND SECURITY

U.S. Citizenship and Immigration Services

[CIS No. 2374-05; USCIS-2006-0002]

RIN 1615—ZA32

Extension of the Designation of Temporary Protected Status for Honduras; Automatic Extension of Employment Authorization Documentation for Honduras TPS Beneficiaries

AGENCY: U.S. Citizenship and Immigration Services, Department of Homeland Security.

ACTION: Notice of extension of temporary protected status for Honduras.

SUMMARY: The designation of Honduras for Temporary Protected Status (TPS) will expire on July 5, 2006. This Notice alerts the public that TPS for Honduras has been extended for 12 months, until July 5, 2007, and sets forth procedures necessary for nationals of Honduras (or aliens having no nationality who last habitually resided in Honduras) with TPS to re-register and to apply for an extension of their Employment Authorization Documents (EADs) for the additional 12-month period. Re-registration is limited to persons who registered under the initial designation (which was announced on January 5, 1999) or who “late initial registered” and also timely re-registered under each subsequent extension of the designation. In accordance with the original designation, eligible aliens must also have maintained continuous physical presence in the United States since January 5, 1999, and continuous residence in the United States since December 30, 1998. Certain nationals of Honduras (or aliens having no nationality who last habitually resided in Honduras) who have not previously applied for TPS may be eligible to apply under the late initial registration provisions.

Given the large number of Hondurans affected by this Notice, the Department of Homeland Security (DHS) recognizes that many re-registrants may not receive an extension sticker or new EAD until after their current EADs expire on July 5, 2006. Accordingly, this Notice automatically extends the validity of EADs issued under the TPS designation of Honduras for 6 months until January 5, 2007, and explains how TPS beneficiaries and their employers may determine which EADs are automatically extended.

DATES: The extension of TPS for Honduras is effective July 5, 2006, and will remain in effect until July 5, 2007. The 60-day re-registration period begins April 1, 2006, and will remain in effect until June 1, 2006. To facilitate processing of their applications, applicants are strongly encouraged to file as soon as possible after the start of the 60-day re-registration period (April 1, 2006).

FOR FURTHER INFORMATION CONTACT: Jonathan Crawford, Residence and Status Services, Office of Programs and Regulations Development, U.S. Citizenship and Immigration Services, Department of Homeland Security, 111 Massachusetts Avenue, NW., 3rd Floor, Washington, DC 20529, telephone (202) 272-8350. This is not a toll-free call.

SUPPLEMENTARY INFORMATION:

Abbreviations and Terms Used in This Document

Act—Immigration and Nationality Act

ASC—USCIS Application Support Center

DHS—Department of Homeland Security

DOS—Department of State

EAD—Employment Authorization Document

Secretary—Secretary of Homeland Security

TPS—Temporary Protected Status

USCIS—U.S. Citizenship and Immigration Services

What authority does the Secretary of Homeland Security have to extend the designation of TPS for Honduras?

Under section 244 of the Immigration and Nationality Act (Act), 8 U.S.C. 1254a, the Secretary, after consultation with appropriate agencies of the Government, is authorized to designate a foreign state (or part thereof) for TPS. 8 U.S.C. 1254a(b)(1). The Secretary of DHS may then grant TPS to eligible nationals of that foreign state (or aliens having no nationality who last habitually resided in that state). 8 U.S.C. 1254a(a)(1)(A).

At least 60 days before the expiration of the TPS designation, or any extension thereof, the Secretary, after consultations with appropriate agencies of the Government, must review the conditions in a foreign state designated for TPS to determine whether the conditions for a TPS designation continue to be met and, if so, the length of an extension of the TPS designation. 8 U.S.C. 1254a(b)(3)(A). If the Secretary determines that the foreign state no longer meets the conditions for the TPS designation, he must terminate the designation. 8 U.S.C. 1254a(b)(3)(B).

Why did the Secretary of Homeland Security decide to extend the TPS designation for Honduras?

On January 5, 1999, the Attorney General published a Notice in the Federal Register at 64 FR 524, designating Honduras for TPS due to the devastation resulting from Hurricane Mitch. Subsequent to that date, the Attorney General and the Secretary of Homeland Security have extended TPS for Honduras five times, determining in each instance that the conditions warranting the designation continued to be met. 65 FR 30438, 66 FR 23269, 67 FR 22451, 68 FR 23744, 69 FR 64084. To notify individuals of the current extension, the Secretary published a Notice in the Federal Register on November 3, 2004, at 69 FR 64084. That extension became effective on January 5, 2005, and is due to end on July 5, 2006.

Since the date of the current extension, DHS and the Department of State (DOS) have continued to review conditions in Honduras. In particular, the Secretary of Homeland Security considered whether there continues to be a substantial, but temporary, disruption of living conditions in Honduras resulting from Hurricane Mitch and that Honduras is unable, temporarily, to adequately handle the return of its nationals, as required for TPS designations based on environmental disasters. 8 U.S.C. 1254a(b)(1)(B)(i-iii).

The DOS Recommendation of February 2006 (“DOS Recommendation”) reports that conditions that initially gave rise to the designation continue to exist and that Honduras cannot provide adequate housing for its nationals currently residing in the U.S. and has yet to recover fully from Hurricane Mitch. The USCIS Office of Refugee, Asylum, and International Operations Report of February 2006 (“ORAIO Report”) indicates that although a number of the reconstruction projects in Honduras have been completed, some of the projects are still incomplete.

The housing shortage is a critical deficiency when considering whether Honduras could adequately handle the return of its nationals currently living in the United States under TPS (DOS Recommendation). Housing construction was not completed in many areas and in those cases that required relocation, infrastructure, and personnel for health and education services, as well as employment opportunities, was reported to be unavailable (ORAIO Report).

More recently, Honduras was devastated by Hurricane Beta and other serious storms in 2005 (DOS Recommendation). Honduras' continuing vulnerability from Hurricane Mitch was evident when Hurricane Beta flooded the northeastern departments of Honduras in October 2005 (ORAIO Report). Roads and many key bridges have been destroyed, hampering additional recovery efforts (DOS Recommendation). Hurricane Beta affected approximately 50 communities, causing the displacement of 11,000 Hondurans, evacuation of 7,600 to temporary shelters (DOS Recommendation) and damage to bridges and crops (ORAIO Report).

Based upon this review, the Secretary of Homeland Security, after consultation with appropriate Government agencies, determined that the conditions that prompted designation of Honduras for TPS continue to be met. See 8 U.S.C. 1254a(b)(3)(A) (describing procedures for periodic review of TPS designations). There continues to be a substantial, but temporary, disruption in living conditions in Honduras as the result of an environmental disaster, and Honduras continues to be unable, temporarily, to handle adequately the return of its nationals. See 8 U.S.C. 1254a(b)(1)(B) (describing conditions that justify TPS designation). On the basis of these findings, the Secretary concluded that the TPS designation for Honduras should be extended for an additional 12-month period. See 8 U.S.C. 1254a(b)(3)(C) (providing the Secretary of Homeland Security with discretion to determine the length of an extension).

If I currently have benefits through the TPS designation of Honduras for TPS, do I need to re-register for TPS?

Yes. If you already have received TPS benefits through the TPS designation of Honduras, your benefits will expire on July 5, 2006. Accordingly, individual TPS beneficiaries must comply with the re-registration requirements described below in order to maintain TPS benefits through July 5, 2007. TPS benefits include temporary protection against removal from the United States, as well as employment authorization, during the TPS designation period. 8 U.S.C. 1254a(a)(1) and 1254a(f). Failure to re-register without good cause will result in the withdrawal of your temporary protected status and possibly your removal from the United States. 8 U.S.C. 1254a(c)(3)(C).

If I am currently registered for TPS or have a pending application for TPS, how do I re-register to renew my benefits for the duration of the extension period?

All persons previously granted TPS under the designation of Honduras who would like to maintain such status and those whose applications remain pending but who wish to renew their benefits must re-register by filing the following:

(1) Form I-821, Application for Temporary Protected Status, without fee;

(2) Form I-765, Application for Employment Authorization (see the chart below to determine whether you must submit the one hundred and eighty dollar ($180) filing fee with Form I-765, or a fee waiver request);

(3) A biometric services fee of seventy dollars ($70) if you are 14 years of age or older, or if you are under 14 and requesting an EAD extension. The biometric services fee will not be waived. 8 CFR 103.2(e)(4)(i), (iii).

(4) A photocopy of the front and back of your EAD if you received an EAD during the most recent registration period.

You do not need to submit photographs with your TPS application because a photograph will be taken, if needed, when you appear at a USCIS Application Support Center (ASC) for collection of biometrics.

Aliens who have previously registered for TPS but whose applications remain pending should follow these instructions if they wish to renew their TPS benefits. All TPS re-registration applications submitted without the required fees will be returned to the applicant.

What edition of the Form I-821 should be submitted?

Form I-821 has been revised. Only the Form I-821 with revision dates of November 5, 2004, or October 26, 2005, will be accepted. The bottom of each page of the revised form reads, “Form I-821 (Rev. 11/05/04)N” or “Form I-821 (Rev. 10/26/05)Y.” Submissions of older versions of Form I-821 will be rejected. You may obtain immigration forms on the Internet at http://uscis.gov or by calling the USCIS forms hotline at 1-800-870-3676.

Who must submit the $180 filing fee for the Form I-765, Application for Employment Authorization?

If | Then
You are applying for an extension of your EAD valid until July 31, 2007, regardless of your age | You must complete and file the Form I-765, Application for Employment Authorization, with the $180 fee.
You are not requesting an extension of your EAD | You must complete and file Form I-765 (for data-gathering purposes only) with no fee.
You are applying for a TPS-related EAD under the late initial registration provisions and are under age 14 or over age 65 | You must complete and file Form I-765 (for data-gathering purposes only) with no fee.
You are applying for an extension of your EAD and are requesting a fee waiver | You must complete and file: (1) Form I-765 and (2) a fee waiver request and affidavit (and any other supporting information) in accordance with 8 CFR 244.20.

Who must submit the $70 biometric services fee?

The $70 biometric services fee must be submitted by all aliens 14 years of age and older who (1) have previously been granted TPS and are now re-registering for TPS; (2) have an initial application for TPS currently pending, have an EAD bearing the notification “C-19” on the face of the card under “Category” or “274a.12(c)(19)” on the face of the card under “Provision of Law,” and wish to renew temporary treatment benefits; or (3) are applying for TPS under the late initial registration provisions. In addition, any alien, including one who is under the age of 14, choosing to apply for a new EAD or an extension of an EAD must submit the $70 biometric services fee. This biometric services fee will not be waived. 8 CFR 103.2(e)(4)(i), (iii).

When should an applicant submit his or her application for TPS?

Applications must be filed during the 60-day re-registration period from April 1, 2006 to June 1, 2006. Applicants are strongly encouraged to file the application as soon as possible after the start of the 60-day re-registration period.

Where should an applicant submit his or her application for TPS?

USCIS has designated two post office (P.O.) boxes with the Chicago Lockbox for the filing of TPS applications under this extension in order to facilitate efficient processing. Please note that applications should only be filed at the appropriate P.O. Box and should not be filed with a USCIS Service Center or District Office. Failure to submit a TPS application to the correct P.O. Box may result in a delay of adjudication. In addition, applicants will not be able to file their applications electronically (“E-file”) for this designation.

The type of TPS filing the applicant has to submit will determine the P.O. Box he or she must use to file; see below for instructions as to which of the two P.O. Boxes to utilize. Failure to file your application with the correct P.O. Box may result in a delay of the processing of your application.

1. Applications for re-registration that do not require the submission of additional documentation or a renewal of temporary treatment benefits must be filed at this address: U.S. Citizenship and Immigration Services, P.O. Box 6943, Chicago, IL 60680-6943. Or, for non-United States Postal Service (USPS) deliveries: U.S. Citizenship and Immigration Services, Attn: TPS—Honduras, 427 S. LaSalle—3rd Floor, Chicago, IL 60605.

2. Aliens who are filing applications for re-registration that require the submission of supporting documentation or are filing for the first time as a late initial registrant must use the address below. Applications for re-registration require the submission of supporting documentation under the following circumstances:

(A) If one or more of the questions listed in Part 4, Question 2 of Form I-821 apply to the alien, then the submission of an explanation, on a separate sheet(s) of paper, and/or additional documentation must be provided.

(B) If the alien was granted TPS by an Immigration Judge or the Board of Immigration Appeals, then the alien must include evidence of the grant of TPS (such as an order from the Immigration Judge) with his or her application package.

Aliens who are filing a re-registration application that requires the submission of additional documentation or for the first time as a late initial registrant should file at the P.O. Box listed below: U.S. Citizenship and Immigration Services, P.O. Box 8631, Chicago, IL 60680-8631. Or, for non-United States Postal Service (USPS) deliveries: U.S. Citizenship and Immigration Services, Attn: TPS—Honduras—[EOIR/Additional Documents] or [Late Initial Registrant], 427 S. LaSalle—3rd Floor, Chicago, IL 60605.

Note: Make sure to use either EOIR/Additional Documents or Late Initial Registrant on the “Attn:” line, after Honduras, above.

Are certain aliens ineligible for TPS?

Yes. There are certain criminal and terrorism-related inadmissibility grounds that render an alien ineligible for TPS. 8 U.S.C. 1254a (c)(2)(A)(iii). Further, aliens who have been convicted of any felony or two or more misdemeanors committed in the United States are ineligible for TPS under section 244(c)(2)(B)(i) of the Act, 8 U.S.C. 1254a(c)(2)(B)(i), as are aliens described in the bars to asylum in section 208(b)(2)(A) of the Act, 8 U.S.C. 1158(b)(2)(A), 8 U.S.C. 1254a(c)(2)(B)(ii). Aliens should also note that an individual granted TPS will have his/her TPS withdrawn if the alien is not in fact eligible for TPS, if an alien fails to timely re-register for TPS without good case, or if the alien fails to maintain continuous physical presence in the United States. 8 U.S.C. 1254a(c)(3)(A)-(C).

Who is eligible to receive an automatic extension of his or her EAD from July 5, 2006 to January 5, 2007?

To receive an automatic extension of his or her EAD, an individual must be a national of Honduras (or an alien having no nationality who last habitually resided in Honduras) who has applied for and received an EAD under the TPS designation of Honduras and who has not had TPS withdrawn or denied. This automatic extension is limited to EADs issued on Form I-766, Employment Authorization Document, bearing an expiration date of July 5, 2006. The EAD must also be a Form I-766 bearing the notation “A-12” or “C-19” on the face of the card under “Category”.

If I am currently registered for TPS under the designation of Honduras and am re-registering for TPS, how do I receive an extension of my EAD after the 6 months granted by the automatic extension?

As a TPS re-registrant you will receive a notice in the mail with instructions to appear at an ASC for biometrics collection. When you report to the ASC, you must bring your receipt notice for your re-registration application, ASC appointment notice, and current EAD. When you appear at an ASC for biometrics collection, USCIS will either affix a sticker to your current EAD extending the validity of the card through the end of July 2007 or advise you that your case requires further resolution. If your case requires further resolution, USCIS will contact you in writing to explain what additional information, if any, is necessary to resolve your case. If those issues are resolved and your re-registration application is approved, you will receive a new EAD in the mail with an expiration date of July 31, 2007. Because the extension stickers include only the month and year, rather than a specific date, all EADS extended by sticker or issued anew pursuant to this extension of the TPS designation for Honduras will be valid through July 31, 2007.

Will I receive a new EAD in the mail if I am given an extension sticker at the ASC?

No. Because the sticker affixed to your card at the ASC will extend the validity of your current EAD through July 2007 there will be no need for you to obtain additional employment authorization documentation during the remainder of this extension of the designation of Honduras for TPS.

If I am not eligible to receive a sticker extending my EAD, can I receive an interim EAD at my local District Office?

No. USCIS will not be issuing interim EADs to TPS applicants and re-registrants at District Offices.

How may employers determine whether an EAD has been automatically extended for six months through January 5, 2007, and is therefore acceptable for completion of the Form I-9?

For purposes of verifying identity and employment eligibility or re-verifying employment eligibility on the Form I-9 until January 5, 2007, employers of Honduran TPS beneficiaries whose EADs have been automatically extended by this Notice must accept the EAD if presented. An EAD that has been automatically extended for six months by this Notice to January 5, 2007, will actually contain an expiration date of July 5, 2006, and must be a Form I-766 bearing the notation “A-12” or “C-19” on the face of the card under “Category.” New EADs or extension stickers showing the January 5, 2007, expiration date of the six-month auto-extension will not be issued.

Employers should not request proof of Honduran citizenship. Employers presented with an EAD that has been extended pursuant to this Federal Register Notice, if it reasonably appears on its face to be genuine and appears to relate to the employee, should accept the EAD as a valid “List A” document and should not ask for additional Form I-9 documentation. This action by the Secretary of Homeland Security through this Federal Register Notice does not affect the right of an applicant for employment or an employee to present any legally acceptable document as proof of identity and eligibility for employment.

Employers are reminded that the laws requiring employment eligibility verification and prohibiting unfair immigration-related employment practices remain in full force. This Notice does not supersede or in any way limit applicable employment verification rules and policy guidance, including those setting forth re-verification requirements, see 8 CFR 274a.2(b)(1)(vii) . For questions, employers may call the USCIS Office of Business Liaison Employer Hotline at 1-800-357-2099 to speak to a USCIS representative. Also, employers may call the U.S. Department of Justice Office of Special Counsel for Immigration Related Unfair Employment Practices (OSC) Employer Hotline at 1-800-255-8155 or 1-800-362-2735 (TDD). Employees or applicants may call the OSC Employee Hotline at 1-800-255-7688 or 1-800-237-2515 (TDD) for information regarding the automatic extension. Additional information is available on the OSC Web site at http://www.usdoj.gov/crt/osc/index.html.

How may employers determine an employee's eligibility for employment once the automatic extension has expired, between January 6, 2007, and the end of the TPS extension on July 5, 2007?

Eligible TPS aliens will possess either an EAD with an expiration date of July 31, 2007, or an EAD with an expiration date of July 5, 2006 and a sticker affixed to it extending the validity of the EAD through July 2007. In either case, the EAD will be a Form I-766 bearing the notation “A-12” or “C-19” on the face of the card under “Category.” Either of these EADs must be accepted for the purposes of verifying identity and employment authorization. Employers are reminded that the laws requiring employment eligibility verification and prohibiting unfair immigration-related employment practices remain in full force, as described above.

What documents may a qualified individual show to his or her employer as proof of employment authorization and identity when completing Form I-9, Employment Eligibility Verification?

During the first 6 months of this extension of the TPS designation for Honduras, employees may submit the following to their employer for completion of the Form I-9 at the time of hire or re-verification. Qualified individuals who have received a 6-month extension of their EADs by virtue of this Federal Register Notice may present a TPS-based EAD to their employer, as described above as proof of identity and employment authorization until January 5, 2007. To minimize confusion over this extension at the time of hire or re-verification, qualified individuals may also present a copy of this Federal Register Notice regarding the automatic extension of employment authorization documentation to January 5, 2007.

After the first six months of TPS employment authorization for this designation extension, and continuing until the end of the extension period, July 5, 2007, a qualified individual will receive one of the following as evidence of employment authorization: a sticker affixed to the EAD extending the validity of the EAD through July 2007, or a new EAD valid through July 31, 2007. Either an EAD with the extension sticker or a newly issued EAD may be presented as evidence of employment authorization.

In the alternative, any legally acceptable document or combination of documents listed in List A, List B, or List C of the Form I-9 may be presented as proof of identity and employment eligibility; it is the choice of the employee.

Does TPS lead to lawful permanent residence?

No. TPS is a temporary benefit that does not lead to lawful permanent residence by itself or confer any other immigration status. 8 U.S.C. 1254a(e), (f)(1), (h) . When a country's TPS designation is terminated, TPS beneficiaries will maintain the same immigration status they held prior to TPS (unless that status has since expired or been terminated), or any other status they may have acquired while registered for TPS. Accordingly, if an alien held no lawful immigration status prior to being granted TPS and did not obtain any other status during the TPS period, he or she will revert to unlawful status upon the termination of the TPS designation. Once the Secretary determines that a TPS designation should be terminated, aliens who had TPS under that designation are expected to plan for their departure from the United States and may wish to apply for immigration benefits for which they may be eligible.

May I apply for another immigration benefit while registered for TPS?

Yes. Registration for TPS does not prevent you from applying for another non-immigrant status, from filing for adjustment of status based on an immigrant petition, or from applying for any other immigration benefit or protection. 8 U.S.C. 1254a(a)(5). For the purposes of change of status and adjustment of status, an alien is considered as being in, and maintaining, lawful status as a nonimmigrant during the period in which the alien is granted TPS. 8 U.S.C. 1254a(f)(4).

How does an application for TPS affect my application for asylum or other immigration benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii) ; 8 U.S.C. 1254a(c)(2)(B)(ii).

Does this extension allow nationals of Honduras (or aliens having no nationality who last habitually resided in Honduras) who entered the United States after December 30, 1998, to file for TPS?

No. This is a Notice of an extension of TPS, not a Notice of re-designation of TPS for Honduras. An extension of TPS does not change the required dates of continuous residence and continuous physical presence in the United States. This extension does not expand TPS availability to those beyond the current TPS eligibility requirements of Honduras. To be eligible for benefits under this extension, nationals of Honduras (or aliens having no nationality who last habitually resided in Honduras) must have continuously resided in the United States since December 30, 1998, and been continuously physically present in the United States since January 5, 1999, the date of the most recent designation of TPS for Honduras.

What is late initial registration?

Some persons may be eligible for late initial registration under 8 U.S.C. 1254a(c)(1)(A)(iv) and 8 CFR 244.2(f)(2) and (g). In order to be eligible for late initial registration an applicant must:

(1) Be a national of Honduras (or alien who has no nationality and who last habitually resided in Honduras);

(2) Have continuously resided in the United States since December 30, 1998;

(3) Have been continuously physically present in the United States since January 5, 1999; and

(4) Be both admissible as an immigrant, except as provided under section 244(c)(2)(A) of the Act, and not ineligible under section 244(c)(2)(B) of the Act.

Additionally, the applicant must be able to demonstrate that during the initial registration period (from January 5, 1999 to August 20, 1999), he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Is the spouse or child of an alien currently eligible to be a TPS registrant.

An applicant for late initial registration must file an application for late registration no later than 60 days after the expiration or termination of the conditions described above. 8 CFR 244.2(g). All late initial registration applications for TPS, pursuant to the TPS designation of Honduras, should be submitted to the aforementioned Lockbox address in Chicago, Illinois.

What happens when this extension of TPS expires on July 5, 2007?

At least 60 days before this extension of TPS designation of Honduras expires on July 5, 2007, the Secretary of Homeland Security, after consultation with appropriate agencies of the Government, will review conditions in Honduras and determine whether the conditions for TPS designation continue to be met at that time, or whether the TPS designation should be terminated. 8 U.S.C. 1254a(b)(3). Notice of that determination, including the basis for the determination, will be published in the Federal Register.

Notice of Extension of Designation of TPS for Honduras

By the authority vested in DHS under sections 244(b)(1)(B), (b)(3)(A), and (b)(3)(C) of the Act, DHS has determined, after consultation with the appropriate Government agencies, that the conditions that prompted designation of Honduras for TPS continue to be met. Accordingly, DHS orders as follows:

(1) The designation of Honduras under section 244(b)(1)(B) of the Act is extended for an additional 12-month period from July 5, 2006, to July 5, 2007. 8 U.S.C. 1254a(b)(3)(C).

(2) There are approximately 75,000 nationals of Honduras (or aliens having no nationality who last habitually resided in Honduras) who have been granted TPS and who may be eligible for re-registration.

(3) To maintain TPS, a national of Honduras (or an alien having no nationality who last habitually resided in Honduras) who was granted TPS during the initial designation period and the subsequent extensions of this designation, or who was granted TPS during late initial registration, must re-register for TPS during the 60-day re-registration period from April 1, 2006 until June 1, 2006.

(4) To re-register, aliens must follow the aforementioned filing procedures set forth in this Notice.

(5) At least 60 days before this extension ends on July 5, 2007, the Secretary of Homeland Security, after consultation with appropriate agencies of the Government, will review the designation of Honduras for TPS and determine whether the conditions for designation continue to be met. 8 U.S.C. 1254a(b)(3)(A). Notice of that determination, including the basis for the determination, will be published in the Federal Register. Id.

(6) Information concerning the extension of designation of Honduras for TPS will be available at local USCIS offices upon publication of this Notice and on the USCIS Web site at http://uscis.gov.

Dated: March 22, 2006.
Michael Chertoff,
Secretary.

[FR Doc. E6-4685 Filed 3-30-06; 8:45 am]

BILLING CODE 4410-10-P